DEPARTMENT OF DEFENSE

Department of the Air Force HQ USAF Scientific Advisory Board

AGENCY: Department of the Air Force, DoD.

ACTION: Notice of meeting.

SUMMARY: Pursuant to Public Law 92-463, notice is hereby given of the forthcoming meeting of the B-2 Maintenance Study and the Commander of Air Combat Command. The purpose of the meeting is to allow the SAB leadership to advise the Director on the outcome of the study. Because classified and contractor-proprietary information will be discussed, this meeting will be closed to the public.

DATES: April 4, 2003.

ADDRESSES: HQ, Air Combat Command.

FOR FURTHER INFORMATION CONTACT: Maj Dwight Pavek, Air Force Scientific Advisory Board Secretariat, 1180 Air Force Pentagon, Rm 5D982, Washington DC 20330-1180, (703) 697-4811.

Pamela D. Fitzgerald,
Air Force Federal Register Liaison Officer.

[FR Doc. 03-7716 Filed 3-31-03; 8:45 am]

BILLING CODE 5001-5-P